DEPARTMENT OF EDUCATION

Office of Postsecondary Education; Overview Information; Fund for the Improvement of Postsecondary Education—Comprehensive Program; Notice Inviting Applications for New Awards for Fiscal Year (FY) 2006

Catalog of Federal Domestic Assistance (CFDA) Number: 84.116B

Dates: Applications Available: June 8, 2006.

Deadline for Notice of Intent to Apply: June 20, 2006.

Deadline for Transmittal of Applications: July 10, 2006.

Deadline for Intergovernmental Review: September 6, 2006.

Eligible Applicants: Institutions of higher education (IHEs) or combinations of those institutions and other public and private nonprofit institutions and agencies.

Estimated Available Funds: $11,250,000.

Estimated Range of Awards: $50,000-$275,000 per year.

Estimated Average Size of Awards: $195,000 per year.

Estimated Number of Awards: 50-60.

Note: The Department is not bound by any estimates in this notice.

Project Period: Up to 36 months.

Full Text of Announcement

I. Funding Opportunity Description

Purpose of Program: The Comprehensive Program supports grants and cooperative agreements to improve postsecondary education opportunities. It encourages reforms, innovations, and improvements of postsecondary education that respond to problems of national significance and provide access to quality education for all.

Under this competition we are particularly interested in applications that address the following priorities.

Invitational Priorities: For FY 2006 these priorities are invitational priorities. Under 34 CFR 75.105(c)(1) we do not give an application that meets these invitational priorities a competitive or absolute preference over other applications.

These priorities are:

Invitational Priority 1: Projects developing innovative instructional and administrative efficiencies to broaden access to high quality and affordable higher education.

Invitational Priority 2: Projects aligning curriculum on a state or multi-state level between high schools and colleges, and between two-year and four-year postsecondary programs, to ensure continuing academic progress and transferability of credits.

Invitational Priority 3: Projects increasing the number and improving the pre-service preparation and professional development of science and mathematics teachers through career change programs and/or programs that combine a bachelor's degree in science or math with a bachelor's degree in education and/or teacher certification, especially collaborative projects involving K-12 educators, college departments of science and mathematics, private sector partnerships, and teacher education programs.

Program Authority: 20 U.S.C. 1138-1138d.

Applicable Regulations: The Education Department General Administrative Regulations (EDGAR) in 34 CFR parts 74, 75, 77, 79, 80, 82, 84, 85, 86, 97, 98, and 99.

Note: The regulations in 34 CFR part 86 apply to IHEs only.

II. Award Information

Type of Award: Discretionary grants or cooperative agreements.

Estimated Available Funds: $11,250,000.

Estimated Range of Awards: $50,000-$275,000 per year.

Estimated Average Size of Awards: $195,000 per year.

Estimated Number of Awards: 50-60.

Note: The Department is not bound by any estimates in this notice.

Project Period: Up to 36 months.

III. Eligibility Information

1. Eligible Applicants: IHEs or combinations of those institutions and other public and private nonprofit institutions and agencies.

2. Cost Sharing or Matching: Although this program does not require cost sharing or matching for eligibility, it is expected that applicants will provide an institutional financial commitment to the project.

IV. Application and Submission Information

1. Address to Request Application Package: You may obtain an application package via the Internet by downloading the package from the program Web site at: http://www.ed.gov/FIPSE.

If you are unable to access the Internet, you may obtain a copy of the application package at the following address: Levenia Ishmell, Fund for the Improvement of Postsecondary Education, U.S. Department of Education, 1990 K Street, NW., room 6147, Washington, DC 20006-8544. Telephone: (202) 502-7668.

If you use a telecommunications device for the deaf (TDD), you may call the Federal Relay Service (FRS) at 1-800-877-8339.

Individuals with disabilities may obtain a copy of the application package in an alternative format (e.g., Braille, large print, audiotape, or computer diskette) by contacting the program contact person listed in this section.

2. Content and Form of Application Submission: Requirements concerning the content of an application, together with the forms you must submit, are in the application package for this program.

Notice of Intent to Apply: In order to allow for the timely selection of appropriate external reviewers in this competition, applicants are asked to submit a brief statement of intent to apply by June 20, 2006. This statement should include (1) the name, mailing address, telephone number, and e-mail address of the proposed project director, (2) the name of the applicant institution, and (3) no more than one paragraph on the topic and/or invitational priority you intend to address. Please e-mail this statement to: FIPSE@ed.gov. There will be no penalty for applications submitted without this statement.

Page Limit: The application narrative is where you, the applicant, address the selection criteria that reviewers use to evaluate the application. You must limit your narrative to the equivalent of no more than 20 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Choose one of these four fonts only—Times New Roman, Courier, Courier New, or Arial—and use a font that is either 12 point or larger.

The page limit does not apply to the title page; the one-page abstract; the budget section, including the narrative budget justification; the assurances and certifications; or the appendix, which may include only a project evaluation chart, qualifications of key personnel, the response to section 427 of the Department of Education's General Education Provisions Act (GEPA), short descriptions of projects that will complement the proposed project, and letters of support.

We will reject your application if—

• You apply these standards and exceed the page limit; or

• You apply other standards and exceed the equivalent of the page limit.

3. Submission Dates and Times:Applications Available: June 8, 2006. Deadline for Notice of Intent to Apply: June 20, 2006. Deadline for Transmittal of Applications: July 10, 2006. Applications for grants under this program must be submitted electronically using the Electronic Grant Application System (e-Application) available through the Department of Education's e-Grants System. For information (including dates and times) about how to submit your application electronically or by mail or by hand delivery if you qualify for an exception to the electronic submission requirement, please refer to section IV. 6 Other Submission Requirements in this notice.

We do not consider an application that does not comply with the deadline requirements. Deadline for Intergovernmental Review: September 6, 2006.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Other Submission Requirements: Applications for grants under this program must be submitted electronically unless you qualify for an exception to this requirement in accordance with the instructions in this section.

a. Electronic Submission of Applications.

Applications for grants under the Comprehensive Program—CFDA Number 84.116B must be submitted electronically using e-Application available through the Department's e-Grants system, accessible through the e-Grants portal page at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30 p.m., Washington, DC time, on the application deadline date. The e-Application system will not accept an application for this program after 4:30 p.m., Washington, DC time, on the application deadline date. Therefore, we strongly recommend that you do not wait until the application deadline date to begin the application process.

• The regular hours of operation of the e-Grants Web site are 6:00 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you qualify for an exception to the electronic submission requirement, as described elsewhere in this section, and submit your application in paper format.

• You must submit all documents electronically, including the Application for the Comprehensive Program (ED 40-514), Budget Information—Non-Construction Programs (ED 524), and all necessary assurances and certifications. You must attach any narrative sections of your application as files in a .DOC (document), .RTF (rich text), or .PDF (Portable Document) format. If you upload a file type other than the three file types specified above or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the Comprehensive Program Title Page (Form No. ED 40-514) to the Application Control Center after following these steps:

(1) Print the Comprehensive Program Title Page (ED 40-514) from e-Application.

(2) The applicant's Authorizing Representative must sign this form (ED 40-514).

(3) Place the PR/Award number in the upper right hand corner (Item 1) of the hard-copy signature page of the ED 40-514.

(4) Fax the signed ED 40-514 to the Application Control Center at (202) 245-6272.

• We may request that you provide us original signatures on other forms at a later date.

Application Deadline Date Extension in Case of e-Application System Unavailability: If you are prevented from electronically submitting your application on the application deadline date because the e-Application system is unavailable, we will grant you an extension of one business day to enable you to transmit your application electronically, by mail, or by hand delivery. We will grant this extension if—

(1) You are a registered user of e-Application and you have initiated an electronic application for this competition; and

(2) (a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgment of any system unavailability, you may contact either (1) the person listed elsewhere in this notice under For Further Information Contact (see section VII. Agency Contact) or (2) the e-Grants help desk at 1-888-336-8930. If the system is down and therefore the application deadline is extended, an e-mail will be sent to all registered users who have initiated an e-Application. Extensions referred to in this section apply only to the unavailability of the Department's e-Application system.

Exception to Electronic Submission Requirement: You qualify for an exception to the electronic submission requirement, and may submit your application in paper format, if you are unable to submit an application through the e-Application system because—

• You do not have access to the Internet; or

• You do not have the capacity to upload large documents to the Department's e-Application system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Cassandra Courtney, FIPSE Comprehensive Program Coordinator, U.S. Department of Education, 1990 K Street, NW., Room 6166, Washington, DC 20006-8544. FAX: (202) 502-7877.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the applicable following address:

By mail through the U.S. Postal Service:U.S. Department of Education, Application Control Center, Attention: (CFDA Number 84.116B), 400 Maryland Avenue, SW., Washington, DC 20202-4260

or

By mail through a commercial carrier:U.S. Department of Education, Application Control Center—Stop 4260, Attention: (CFDA Number 84.116B), 7100 Old Landover Road, Landover, MD 20785-1506

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.116B), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—on the Comprehensive Program Title Page the CFDA number and suffix letter (84.116B) of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this program are from 34 CFR 75.210 and are as follows:

(a) Need for project. The Secretary considers the need for the proposed project. In determining the need for the proposed project, the Secretary considers each of the following factors:

(1) The magnitude or severity of the problem to be addressed by the proposed project.

(2) The magnitude of the need for the services to be provided or the activities to be carried out by the proposed project.

(b) Significance. The Secretary considers the significance of the proposed project. In determining the significance of the proposed project, the Secretary considers each of the following factors:

(1) The potential contribution of the proposed project to increased knowledge or understanding of educational problems, issues, or effective strategies.

(2) The extent to which the proposed project involves the development or demonstration of promising new strategies that build on, or are alternatives to, existing strategies.

(3) The importance or magnitude of the results or outcomes likely to be attained by the proposed project, especially improvements in teaching and student achievement.

(4) The potential replicability of the proposed project or strategies, including, as appropriate, the potential for implementation in a variety of settings.

(c) Quality of the project design. The Secretary considers the quality of the design of the proposed project. In determining the quality of the design of the proposed project, the Secretary considers each of the following factors:

(1) The extent to which the design of the proposed project is appropriate to, and will successfully address, the needs of the target population or other identified needs.

(2) The extent to which the goals, objectives, and outcomes to be achieved by the proposed project are clearly specified and measurable.

(3) The extent to which the design for implementing and evaluating the proposed project will result in information to guide possible replication of project activities or strategies, including information about the effectiveness of the approach or strategies employed by the project.

(4) The extent to which the proposed project is designed to build capacity and yield results that will extend beyond the period of Federal financial assistance.

(d) Quality of the project evaluation. The Secretary considers the quality of the evaluation to be conducted of the proposed project. In determining the quality of the evaluation, the Secretary considers each of the following factors:

(1) The extent to which the evaluation will provide guidance about effective strategies suitable for replication or testing in other settings.

(2) The extent to which the methods of evaluation are thorough, feasible, and appropriate to the goals, objectives, and outcomes of the proposed project.

(3) The extent to which the methods of evaluation include the use of objective performance measures that are clearly related to the intended outcomes of the project and will produce quantitative and qualitative data to the extent possible.

(e) Adequacy of resources. The Secretary considers the adequacy of resources for the proposed project. In determining the adequacy of resources for the proposed project, the Secretary considers each of the following factors:

(1) The extent to which the costs are reasonable in relation to the objectives, design, and potential significance of the proposed project.

(2) The relevance and demonstrated commitment of each partner in the proposed project to the implementation and success of the project.

(3) The potential for continued support of the project after Federal funding ends, including, as appropriate, the demonstrated commitment of appropriate entities to such support.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: The success of FIPSE's Comprehensive Program depends upon (1) the percentage of projects that are adopted in full or in part, or whose materials are used by other institutions and (2) the percentage of projects with a high likelihood of sustainability beyond Federal funding, based on the project officer's determination. These two results constitute FIPSE's indicators of the success of the program.

If funded, you will be asked to collect and report data in your project's annual performance report (EDGAR, 34 CFR 75.590) on steps taken toward these goals. Consequently, applicants to FIPSE's Comprehensive Program are advised to include these two indicators in conceptualizing the design, implementation and evaluation of the proposed project. Consideration of FIPSE's two performance indicators is an important part of many of the review criteria. Thus, it is important to the success of your application that you include these indicators. Their measure should be a part of the project evaluation plan, along with measures of goals and objectives specific to your project.

VII. Agency Contact

For Further Information Contact: Cassandra Courtney, Fund for the Improvement of Postsecondary Education, U.S. Department of Education, 1990 K Street, NW., room 6166, Washington, DC 20006-8544. Telephone: (202) 502-7506 or by e-mail: Cassandra.Courtney@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html

Dated: June 5, 2006.
James F. Manning,
Acting Assistant Secretary for Postsecondary Education.

[FR Doc. E6-8912 Filed 6-7-06; 8:45 am]

BILLING CODE 4000-01-P